DEPARTMENT OF COMMERCE

International Trade Administration

[A-570-908]

Sodium Hexametaphosphate From the People's Republic of China: Final Results of the Expedited Third Sunset Review of the Antidumping Duty Order

AGENCY: Enforcement and Compliance, International Trade Administration, Department of Commerce.

SUMMARY: The U.S. Department of Commerce (Commerce) finds that revocation of the antidumping duty (AD) order on Sodium Hexametaphosphate (SHMP) from the People's Republic of China (China) would be likely to lead to continuation or recurrence of dumping at the levels indicated in the “Final Results of Sunset Review” section of this notice.

DATES: Applicable May 29, 2024.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On March 19, 2008, Commerce published its AD order on SHMP from China.¹ On February 1, 2024, Commerce published the notice of initiation of the third five-year sunset review of the Order, pursuant to section 751(c) of the Tariff Act of 1930, as amended (the Act).² On February 15, 2024, Commerce received a notice of intent to participate in this review from ICL Specialty Products, Inc. and Innophos, Inc. (collectively, the petitioners) within the deadline specified in 19 CFR 351.218(d)(1)(i).³ The petitioners claimed interested party status under section 771(9)(C) of the Act as manufacturers of a domestic like product in the United States.

¹ See Notice of Antidumping Duty Order: Sodium Hexametaphosphate from the People's Republic of China, 73 FR 14772 (March 19, 2008) (Order).

² See Initiation of Five-Year (Sunset) Reviews, 89 FR 6499 (February 1, 2024).

³ See Petitioners' Letter, “Notice of Intent to Participate,” dated February 15, 2024.

On March 1, 2024, the petitioners provided a complete substantive response for this review within the 30-day deadline specified in 19 CFR 351.218(d)(3)(i).⁴ We received no substantive responses from any other interested parties, nor was a hearing requested. On March 22, 2024, Commerce notified the U.S. International Trade Commission that it did not receive an adequate substantive response from respondent interested parties.⁵ As a result, pursuant to section 751(c)(3)(B) of the Act and 19 CFR 351.218(e)(1)(ii)(C)(2), Commerce conducted an expedited (120-day) sunset review of this Order.

⁴ See Petitioners' Letter, “Substantive Response to Notice of Initiation of Five-Year (Sunset) Review of the Antidumping Order,” dated March 1, 2024.

⁵ See Commerce's Letter, “Sunset Reviews for February 1, 2024,” dated March 22, 2024.

Scope of the Order

The merchandise subject to this Order is SHMP. It is imported under subheading 2835.39.5000 of the Harmonized Tariff Schedule of the United States (HTSUS). It may also be imported as a blend or mixture under subheading 3824.90.3900, HTSUS. The American Chemical Society, Chemical Abstract Service (CAS) has assigned the name “Polyphosphoric Acid, Sodium Salt” to SHMP. The CAS registry number is 68915-31-1. However, SHMP is commonly identified by CAS No. 10124-56-8 in the market. For purposes of the Order, the narrative description is dispositive, not the tariff heading, CAS registry number, or CAS name. For a complete description of the scope of the Order, see the Issues and Decision Memorandum.⁶

⁶ See Memorandum “Issues and Decision Memorandum for the Final Results of the Expedited Third Sunset Review of the Antidumping Duty Order on Sodium Hexametaphosphate from the People's Republic of China,” dated concurrently with this notice (Issues and Decision Memorandum).

Analysis of Comments Received

All issues raised in this review, including the likelihood of continuation or recurrence of dumping in the event of revocation and the magnitude of the margins likely to prevail if the Order were revoked, are addressed in the accompanying Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(c)(1) and (3) of the Act, Commerce determines that revocation of the Order would be likely to lead to the continuation or recurrence of dumping and that the magnitude of the dumping margins likely to prevail would be up to 188.05 percent.

Administrative Protective Order

This notice serves as the only reminder to interested parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: May 22, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2024-11780 Filed 5-28-24; 8:45 am]

BILLING CODE 3510-DS-P